DEPARTMENT OF TRANSPORTATION

Federal Aviation Administration

14 CFR Part 39

[Docket No. FAA-2011-1022; Directorate Identifier 2011-NE-20-AD]

RIN 2120-AA64

Airworthiness Directives; BRP—Powertrain GMBH & CO KG 914 F2, 914 F3, and 914 F4 Reciprocating Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Isolated manufacturing deviations have been reportedly found on the threads of a certain batch of fuel pressure regulators, Part Number (P/N) 887130, installed on Rotax 914 F series engines.

This condition, if not corrected, could lead to a fuel leak and in-flight fire which would necessitate an engine shut-down, possibly resulting in a forced landing, with consequent damage to the aeroplane and injury to occupants.

These affected fuel pressure regulators may have non-conforming threads in the banjo bolt fitting for the fuel return line to the fuel tank from original manufacture. These non-conforming threads could result in fuel leakage during engine operation. We are proposing this AD to prevent fuel leaks, which could result in an in-flight fire and damage to the aircraft.

DATES: We must receive comments on this proposed AD by November 14, 2011.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: 202-493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is the same as the Mail address provided in the ADDRESSES section. Comments will be available in the AD docket shortly after receipt.

FOR FURTHER INFORMATION CONTACT: Mark Riley, Aerospace Engineer, Engine Certification Office, FAA, Engine & Propeller Directorate, 12 New England Executive Park, Burlington, MA 01803; e-mail: mark.riley@faa.gov; phone: 781-238-7758; fax: 781-238-7199.

SUPPLEMENTARY INFORMATION:

Comments Invited

We invite you to send any written relevant data, views, or arguments about this proposed AD. Send your comments to an address listed under the ADDRESSES section. Include “Docket No. FAA-2011-1022; Directorate Identifier 2011-NE-20-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2011-0082, dated May 10, 2011 (referred to after this as “the MCAI”), to correct an unsafe condition for the specified products. The MCAI states:

Isolated manufacturing deviations have been reportedly found on the threads of a certain batch of fuel pressure regulators, Part Number (P/N) 887130, installed on Rotax 914 F series engines.

This condition, if not corrected, could lead to a fuel leak and in-flight fire which would necessitate an engine shut-down, possibly resulting in a forced landing, with consequent damage to the aeroplane and injury to occupants.

These affected fuel pressure regulators may have non-conforming threads in the banjo bolt fitting for the fuel return line to the fuel tank from original manufacture. These non-conforming threads could result in fuel leakage during engine operation, in-flight fire, and damage to the airplane.

For the reasons described above, this proposed AD would require the replacement of all affected P/N 887130 fuel pressure regulators with parts eligible for installation. You may obtain further information by examining the MCAI in the AD docket.

FAA's Determination and Requirements of This Proposed AD

This product has been approved by EASA, and is approved for operation in the United States. Pursuant to our bilateral agreement with the European Community, EASA has notified us of the unsafe condition described in the MCAI. We are proposing this AD because we evaluated all information provided by EASA and determined the unsafe condition exists and is likely to exist or develop on other products of the same type design. This proposed AD would require the replacement of all affected P/N 887130 fuel pressure regulators with parts eligible for installation, within 100 flight hours after the effective date of the proposed AD.

Differences Between This AD and the MCAI or Service Information

The EASA AD requires replacing the fuel pressure regulator within 100 flight hours (FH) or 6 months after the effective date of that AD, whichever occurs first. This proposed AD would require replacing the fuel pressure regulator within 100 FH after the effective date of this proposed AD.

Costs of Compliance

We estimate that this proposed AD would affect about 75 products of U.S. registry. We also estimate that it would take about 2 work-hours per product to comply with this proposed AD. The average labor rate is $85 per work-hour. Required parts would cost about $180 per product. Based on these figures, we estimate the cost of the proposed AD on U.S. operators to be $26,250.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BRP—Powertrain GMBH & CO KG (formerly Bombardier-Rotax GmbH): Docket No. FAA-2011-1022; Directorate Identifier 2011-NE-20-AD.

Comments Due Date

(a) We must receive comments by November 14, 2011.

Affected Airworthiness Directives (ADs)

(b) None.

Applicability

(c) This AD applies to BRP—Powertrain GMBH & CO KG 914 F2, 914 F3, and 914 F4 reciprocating engines with certain fuel pressure regulators, part number (P/N) 887130 installed.

Reason

(d) This AD results from:

Isolated manufacturing deviations have been reportedly found on the threads of a certain batch of Fuel pressure Regulators, Part Number (P/N) 887130, installed on Rotax 914 F series engines.

This condition, if not corrected, could lead to a fuel leak and in-flight fire which would necessitate an engine shut-down, possibly resulting in a forced landing, with consequent damage to the aeroplane and injury to occupants.

We are issuing this AD prevent to fuel leaks, which could result in an in-flight fire and damage to the aircraft.

Actions and Compliance

(e) Within 100 flight hours (FH) after the effective date of this AD, replace fuel pressure regulators listed in Table 1 of this AD with a fuel pressure regulator that is not listed in Table 1 of this AD, and is eligible for installation.

(f) After the effective date of this AD, do not install any fuel pressure regulator P/N 887130 onto any engine, if the fuel pressure regulator has a serial number (S/N) listed in Table 1 of this AD.

(g) After the effective date of this AD, do not install any Rotax 914 F series engine on any airplane if it has installed in it a fuel pressure regulator P/N 887130 with a S/N listed in Table 1 of this AD.

Table 1—S/Ns of Affected Fuel Pressure Regulators, P/N 887130
100200 through 100246 inclusive.
100248 through 100280 inclusive.
100282 through 100293 inclusive.
100295 through 100314 inclusive.
100316 and 100317.
100319 through 100326 inclusive.
100330.
100332 and 100333.
100338 through 100340 inclusive.
100342 through 100345 inclusive.
100348.
100350 through 100355 inclusive.
100357 through 100363 inclusive.
100365 through 100368 inclusive.
100371 and 100372.
100374 through 100376 inclusive.
100379 and 100380.
100395 and 100396.

FAA AD Differences

(h) This AD differs from the Mandatory Continuing Airworthiness Information (MCAI) by the compliance time. The MCAI requires replacing the fuel pressure regulator within 100 FH or 6 months after the effective date of EASA AD 2011-0082, dated May 10, 2011. This AD requires replacing the fuel pressure regulator within 100 FH after the effective date of this AD.

Alternative Methods of Compliance (AMOCs)

(i) The Manager, Engine Certification Office, FAA, has the authority to approve AMOCs for this AD, if requested using the procedures found in 14 CFR 39.19.

Related Information

(j) Refer to MCAI Airworthiness Directive 2011-0082, dated May 10, 2011, for related information.

(k) Contact Mark Riley, Aerospace Engineer, Engine Certification Office, FAA, Engine & Propeller Directorate, 12 New England Executive Park, Burlington, MA 01803; e-mail: mark.riley@faa.gov; phone: 781-238-7758; fax: 781-238-7199, for more information about this AD.

Issued in Burlington, Massachusetts, on September 21, 2011.
Peter A. White,
Manager, Engine and Propeller Directorate, Aircraft Certification Service.

[FR Doc. 2011-24842 Filed 9-27-11; 8:45 am]

BILLING CODE 4910-13-P